ENVIRONMENTAL PROTECTION AGENCY

[FRL-9989-89-Region 5]

Request for Nominations to the Great Lakes Advisory Board

AGENCY: Environmental Protection Agency (EPA).

ACTION: Notice of request for nominations to the Great Lakes Advisory Board.

SUMMARY: The U.S. Environmental Protection Agency (EPA) is seeking nominations from a diverse range of qualified candidates who desire to serve as members of EPA's Great Lakes Advisory Board (GLAB). The GLAB is chartered to provide advice and recommendations to the EPA Administrator, through the Great Lakes National Program Manager, on matters related to the Great Lakes Restoration Initiative and on domestic matters related to the implementation of the Great Lakes Water Quality Agreement between the U.S. and Canada. It is anticipated that GLAB members will be selected by the summer of 2019.

DATES: Nominations must be dated March 25, 2019.

ADDRESSES: Submit nominations electronically with the subject line “GLAB Nomination 2019” to Barnes.Edlynzia@epa.gov. You may also submit nominations by regular mail to: Edlynzia Barnes, Designated Federal Officer, U.S. Environmental Protection Agency, Great Lakes National Program Office, 77 W Jackson Boulevard, (G-9J) Chicago, Illinois 60604.

FOR FURTHER INFORMATION CONTACT: Edlynzia Barnes, Designated Federal Officer, Great Lakes National Program Office, U.S. Environmental Protection Agency, 77 W Jackson Boulevard, (G-9J) Chicago, IL; telephone number: 312-886-6249; email address: Barnes.Edlynzia@epa.gov.

SUPPLEMENTARY INFORMATION: Background: The GLAB has been re-established in accordance with the Federal Advisory Committee Act (FACA) of 1972 (5 U.S.C., Appendix 2, as amended) and 41 CFR 102-3.50(d). The Advisory Board will provide advice and recommendations on matters related to the Great Lakes Restoration Initiative. The Advisory Board will also advise on domestic matters related to implementation of the Great Lakes Water Quality Agreement between the U.S. and Canada.

The major objectives will be to provide advice and recommendations on:

a. Great Lakes protection and restoration activities;

b. Long term goals, objectives, and priorities for Great Lakes protection and restoration; and

c. Other issues identified by the Great Lakes Interagency Task Force/Regional Working Group.

The GLAB is expected to meet in person or by electronic means (e.g., telephone, videoconference, webcast, etc.) approximately two (2) times per year, or as otherwise needed and approved by the Designated Federal Officer. In-person meetings will be held in the Great Lakes region.

Nominations: The GLAB will be composed of approximately fifteen (15) members who will serve as representative members of non-federal interests. In selecting members, EPA will consider candidates representing a broad range of Great Lakes stakeholders, including, but not limited to: Environmental groups; agricultural groups; industry and/or business groups; citizen groups; environmental justice groups; foundations; academia; and state, local and tribal governments. In selecting members, EPA will consider the differing perspectives and breadth of collective experience needed to address the GLAB's charter. Other criteria used to evaluate nominees will include:

• Experience with Great Lakes issues;

• Leadership and consensus-building experience in Great Lakes organizations, businesses, and workgroups;

• Membership in professional societies involved with Great Lakes issues;

• Academic leadership and expertise;

• Community leadership; and

• Representation of multiple constituencies within the Great Lakes basin.

In accordance with the October 31, 2017 EPA Administrator's Memo entitled Strengthening and Improving Membership on EPA Federal Advisory Committees, and to ensure the independence and integrity of Federal Advisory Committee members, no member of an EPA Federal Advisory Committee shall receive EPA grants, either as principal investigator or co-investigator. Nominees to the GLAB shall describe their EPA funding history and past, current, or planned activities as principle or co-principle investigators of EPA grants. [Note: This restriction and the related requirement to provide funding history and a description of activities does not apply to employees of state, tribal or local government agencies which have been recipients of EPA grants.]

The EPA welcomes and values diversity. To obtain nominations of diverse candidates, the agency encourages nominations of women and men of all racial and ethnic groups. All nominations with be fully considered, but applicants shall be aware of EPA's specific membership goals and criteria as outlined above.

How to Submit Nominations: Any interested person or organization may nominate qualified persons to be considered for appointment to the GLAB. Individuals may self-nominate. Nominations can be submitted in electronic format (preferred) or in hard copy format (see ADDRESSES section above). To be considered, nominations should include:

• Current contact information for the nominee, including the nominee's name, organization (and position within that organization), current business address, email address and daytime phone number;

• A brief statement describing the nominee's interest in serving on the GLAB;

• A resume and a short biography (no more than two paragraphs) describing the professional and educational qualifications of the nominee, including a list of relevant activities and any current or previous service on federal advisory committees; and

• A description of the nominee's EPA grant funding history including current EPA grant activities if applicable. If this does not apply to the nominee, please provide a brief statement indicating so.

• Optional: Letter(s) of recommendation from a third party supporting the nomination. Letter(s) should describe how the nominee's experience and knowledge will bring value to the work of the GLAB.

To help the Agency evaluate the effectiveness of its outreach efforts, nominees are requested to use their submission packages to identify how they became aware of this request for nominations.

Dated: February 7, 2019.
Cathy Stepp,
Regional Administrator, Great Lakes National Program Manager.

[FR Doc. 2019-02989 Filed 2-20-19; 8:45 am]

BILLING CODE 6560-50-P